LIBRARY OF CONGRESS

Copyright Office

37 CFR Parts 201 and 202

[Docket No. 2009-4]

Electronic Registration for Deposit Account Holders

AGENCY: Copyright Office, Library of Congress.

ACTION: Notice of proposed rulemaking.

SUMMARY: The Copyright Office is proposing to amend its regulations to require that applications for registration paid for by deposit account debits be submitted electronically using the electronic Copyright Office (eCO) registration system (eService). The Copyright Office is also requesting comment as to whether deposit accounts offer sufficient efficiencies to continue offering this service.

DATES: Written comments must be received in the Office of the General Counsel of the Copyright Office no later than August 28, 2009.

ADDRESSES: If hand delivered by a private party, an original and five copies of a comment or reply comment should be brought to the Library of Congress, U.S. Copyright Office, Room LM-401, James Madison Building, 101 Independence Ave., SE, Washington, DC 20559, between 8:30 a.m. and 5 p.m. The envelope should be addressed as follows: Office of the General Counsel, U.S. Copyright Office.

If delivered by a commercial courier, an original and five copies of a comment or reply comment must be delivered to the Congressional Courier Acceptance Site (“CCAS”) located at 2nd and D Streets, NE, Washington, DC between 8:30 a.m. and 4 p.m. The envelope should be addressed as follows: Office of the General Counsel, U.S. Copyright Office, LM-403, James Madison Building, 101 Independence Avenue, SE, Washington, DC 20559. Please note that CCAS will not accept delivery by means of overnight delivery services such as Federal Express, United Parcel Service or DHL. If sent by mail (including overnight delivery using U.S. Postal Service Express Mail), an original and five copies of a comment or reply comment should be addressed to U.S. Copyright Office, Copyright GC/I&R, P.O. Box 70400, Washington, DC 20024.

FOR FURTHER INFORMATION CONTACT: Tanya Sandros, Deputy General Counsel or, Chris Weston, Attorney Advisor. Copyright GC/I&R, P.O. Box 70400, Washington, DC 20024. Telephone: (202) 707-8380. Telefax: (202) 707-8366.

SUPPLEMENTARY INFORMATION:

Deposit Account Background

The Copyright Office maintains a system of deposit accounts for those who frequently use its services. An individual or entity may establish a deposit account, make advance deposits into that account, and charge copyright fees against the balance instead of sending separate payments with applications and other requests for services. This process has been more efficient and less expensive for both the Office and the applicant than sending separate payments to the Copyright Office for each application for registration or for other services.

Proposed Change to Deposit Account Regulations

Historically, there have been no restrictions on registration practices connected with using deposit accounts. However, the Copyright Office is now proposing to amend its rules to require that, when an application for registration is paid for by a deposit account debit, the application form be submitted electronically, using the electronic Copyright Office (eCO) registration system, known as eService. The proposed change would ensure that basic applications for registration will be processed more efficiently and Copyright Office administrative costs will be reduced. The Office requests comments from the public on this proposal.

Under current practice, when there are insufficient funds in the deposit account being used for payment of a paper application, the Copyright Office suspends processing of the application to notify the account holder that replenishment of the account is needed, and places the pending application and associated deposit copies in temporary storage. The suspended applications, which may number 3000 or more at any one time must be reviewed regularly by Office staff to locate those that are newly funded and reprocess them. Thus, insufficient deposit account funding at a minimum effectively doubles the time Office staff must spend examining and processing an application, time that would otherwise be more profitably spent on the current backlog of unprocessed paper applications.

On average, three to four percent of paper applications for registration are suspended each year due to lack of sufficient funds in deposit accounts. In fiscal 2007, between 16,000 and 22,000 applications were put on hold for this reason, and the Office expended a substantial amount of resources managing the suspended applications and deposits. While the Office assesses additional fees for deposit account overdrafts and dishonored deposit account replenishment checks, see 37 CFR 201.3(d), these penalties do not recover the costs or solve the fundamental problems associated with the additional handling and the delay in processing. Consequently, the Office is proposing to require deposit account holders to file applications for registration via eService [including applications that require the submission of physical copies of the deposit in order to meet the Best Edition requirement, see 37 CFR 202.20(b)(1)], to ensure that the Office can collect the fee at the time of filing.

eService, which was released on July 1, 2008, allows applications for copyright registration to be filed electronically and is available through the Copyright Office website at www.copyright.gov. An application for registration made via eService cannot be completed until the method of payment is verified by, for example, ensuring that sufficient funds are present in the deposit account and payment has been made. In contrast, paper applications must be received by the Copyright Office, opened and processed before the validity of the proffered method of payment can be ascertained.

Thus, the proposed change to require that all applications for registration paid for by deposit account debits be submitted via eService will produce significant efficiencies for the Office.

By guaranteeing payment at the time of application, the proposal will reduce, if not eliminate, the cost and delays ascribable to suspending applications lacking fees, storing suspended applications and associated deposit copies, notifying deposit account holders of the need to replenish their accounts, and retrieving and reprocessing suspended applications after fees are received. In addition, it will eliminate converting data from a paper application to digital information for applications paid for by deposit account debits. Electronic claims have been demonstrated to cost the Office only half as much as paper claims, even those with no payment or other complications. Among the reasons for the lower cost is the avoidance of virtually all work associated with scanning and storing applications, processing payments, converting data from paper to digital form, and verifying the transcribed data prior to issuing a certificate. Moreover, the proposed amendment is consistent with the Office’s goal of maximizing use of the electronic registration system through eService. See, e.g., 73 FR 23990 (April 30, 2008) (Notice of proposed rulemaking to require all group registrations to be filed electronically).

From an applicant’s perspective, using eService to submit applications for registration would also be more efficient. The effective date of registration is typically established more quickly for electronic applications because, in many cases, the Copyright Office receives all the required elements as mandated by 17 U.S.C. 410(d) - application, fee and deposit copy(ies) - in acceptable form sooner than if sent in physical form. In addition, applications for registration filed through eService are processed faster than paper applications, in part because processing is not delayed by the deposit account having insufficient funds. Currently, 90% of the applications submitted through eService are processed within six months and a third of these claims are completed within three months.

Another advantage to applying for copyright registration via eService is the financial benefit to the filer. The fee for filing a basic application for registration online is $35 and the current fee for filing a paper application is $45, which will increase to $65 on August 1, 2009. The lower fee applies to an online submission even if the filer must send physical deposits to fulfill the Library of Congress’s best edition requirement. Finally, there are features of the online application that make it easier to complete the application. For example, the eService system offers the option of a template feature that speeds the process of completing applications by automatically copying repeated information, such as name and address, from one application to the next.

The key reason, however, for the proposed change is that the eService system notifies an electronic applicant at the point of payment when the deposit account contains insufficient funds to process the application, making it possible for the deposit account holder to replenish the account immediately and avoid any delay in establishing an effective date of registration. If the applicant’s deposit account does not have sufficient funds, payment for the application in question or replenishment of the deposit account can be accomplished with a credit card or through Pay.gov. Pay.gov is an Internet system for credit card payments and automatic clearing house debit transactions (electronic checks) managed by the U.S. Treasury Department. Further information concerning the payment options for registering claims may be found on the Copyright Office website at: http://www.copyright.gov/eco/faq.html, under the heading, “Paying fees in eCO.”

It is also important to note that the proposed change will not require a deposit account holder to open a new account. In order to begin filing electronically, he or she will only need to take the following steps: (1) register with the eService system by creating a user profile, (2) create an organization account in eService, and (3) submit a request to depositaccts@loc.gov to link the existing deposit account to the newly created eService organization account. The email request should include the deposit account number and the name of the eService organization account.

Inquiry Regarding Continued Use of Deposit Accounts

In considering the proposed rule change, questions have arisen about the continued need for deposit accounts. Consequently, the Copyright Office is also seeking public comment on whether it should cease offering the use of deposit accounts altogether. In an era when paper applications and payment via check were the norm, a separate, simplified deposit account system presented attractive efficiencies to frequent applicants and to the Office. However, in an era of electronic registration and payment via corporate or other credit cards, the administrative costs of maintaining a separate deposit account system are no longer clearly offset by its advantages. The Office is thus soliciting the views of current deposit account users as to whether they continue to find value in the deposit account system, and what impact, if any, the elimination of deposit accounts would have on their copyright registration activities in light of the new online payment options.

List of Subjects

37 CFR Part 201

Copyright, General provisions.

37 CFR Part 202

Preregistration and registration of claims to copyright.

Proposed Regulations

In consideration of the foregoing, the Copyright Office proposes to amend parts 201 and 202 of 37 CFR as follows:

PART 201-GENERAL PROVISIONS

1. The authority citation for part 201 continues to read as follows:

Authority: 17 U.S.C. 702.

2. Section 201.6(b) is revised to read as follows:

§ 201.6 Payment and refund of Copyright Office fees.

* * * * *

(b) Persons or firms having a considerable amount of business with the Copyright Office may prepay copyright expenses by establishing a Deposit Account. Pursuant to the requirements of § 202.3(b)(2)(iii) of these regulations, application forms for registration paid for by deposit account debits must be submitted electronically using the electronic Copyright Office (eCO) registration system (eService).

* * * * *

PART 202-REGISTRATION OF CLAIMS TO COPYRIGHT

3. The authority citation for part 202 continues to read as follows:

Authority: 17 U.S.C. 408(f), 702.

4. Amend § 202.3 as follows:

a.In paragraph (b)(2)(ii) introductory text, by removing “Application” in the last sentence and adding in its place “Subject to the mandatory electronic filing requirements for deposit account holders in § 202.3(b)(2)(iii) of these regulations, application”;

b.In paragraph (b)(2)(ii)(A), by removing “electronically at the Copyright Office website” and adding in its place “using the electronic Copyright Office (eCO) registration system (eService) at the official Copyright Office website”;

c.In paragraph (b)(2)(ii)(B), by removing “electronically at the Copyright Office website” and adding in its place “using the electronic Copyright Office (eCO) registration system (eService) at the official Copyright Office website”;

d.In paragraph (b)(2)(ii)(C), by removing “check, money order, or Copyright Office deposit account charge; or,” and adding in its place “check or money order; or,”;

e.In paragraph (b)(2)(ii)(D), by adding “in check or money order” after “the required filing fee”; and

f.Add a new paragraph (b)(2)(iii).

The revisions and additions to § 202.3 read as follows:

§ 202.3 Registration of copyright.

* * * * *

(b)* * *

(2)* * *

(iii) When the fee required by § 201.3 of this section to file a basic application for registration is paid for by a deposit account debit, the application form shall be submitted through the electronic Copyright Office (eCO) registration system (eService) that is available at www.copyright.gov. If an applicant submits a paper application form for basic registration paid for by a deposit account debit, the Copyright Office will have the option - after processing the application - of terminating that applicant’s deposit account. Termination will be effective 30 days after notification to the deposit account holder.

* * * * *

Dated: July 8, 2009.
Marybeth Peters,
Register of Copyrights.

[FR Doc. E9-16664 Filed 7-13-09; 8:45 am]

BILLING CODE 1410-30-S